DEPARTMENT OF THE INTERIOR

Minerals Management Service

30 CFR Part 210 and 218

RIN 1010-AC86

Solid Minerals Reporting Requirements

AGENCY: Minerals Management Service (MMS), Interior.

ACTION: Final rule; correction.

SUMMARY: On August 30, 2001, MMS published a final rule titled “Solid Minerals Reporting Requirements” (66 FR 45760) to implement MMS's reengineered compliance strategy for solid minerals. This document makes minor corrections to that final rule.

EFFECTIVE DATE: October 1, 2001.

FOR FURTHER INFORMATION CONTACT: Carol P. Shelby, Regulatory Specialist, Regulations and FOIA Team, Minerals Revenue Management, MMS, telephone (303) 231-3151, fax (303) 231-3385, or e-mail Carol.Shelby@mms.gov.

Correction

In Federal Register document 01-21638 published Thursday, August 30, 2001, make the following corrections:

1. On page 45771, in the third column, in § 210.201(c)(3)(i), the post office box number “5760” should read “5810” and the zip code “80217-5760” should read “80217-5810.”

2. On page 45773, in the third column, in amendatory instruction 27.b., the words “pursuant to instructions in the ‘AFS Payor Handbook—Solid Minerals' ” should read “in the ‘AFS Payor Handbook—Solid Minerals'.”

Dated: September 19, 2001.
Lucy Querques Denett,
Associate Director for Minerals Revenue Management.

[FR Doc. 01-24988 Filed 10-4-01; 8:45 am]

BILLING CODE 4310-MW-P